DEPARTMENT OF JUSTICE

Antitrust Division

Notice Pursuant to the National Cooperative Research And Production Act of 1993—Z-Wave Alliance, Inc.

Notice is hereby given that, on September 2, 2022, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Control & More, Riyadh, SAUDI ARABIA; Good Energy Solutions, Inc., Lawrence, KS; Smart AT For You, Teneriffe, AUSTRALIA; and iGuard Home Solutions Inc., Seattle, WA have joined as parties to the venture.

Also, Power and Data Engineering, Alfords Point, AUSTRALIA; Vodafone Group Services GmbH, Dusseldorf, GERMANY; Sybersense IOT, Millcreek, UT; Head Enterprises Queensland Pty Ltd, Springwood, AUSTRALIA; ImaGenius, Saugus, MA; Animus Home AB, Lund, SWEDEN; HomeControl AS, Oslo, NORWAY; SoftAtHome, Colombes, FRANCE; iHomeFuture, Dubai, UNITED ARAB EMIRATES; Arvitech Controls S.A., Guayaquil, ECUADOR; ContractOne, Shenzhen, PEOPLE'S REPUBLIC OF CHINA; Polynhome, Paris, FRANCE; Anhui Geniatech INC., LTD, Hefei, PEOPLE'S REPUBLIC OF CHINA; I feel, Tikva, ISRAEL; Pamex Inc., Chino, CA; A1 Smarthome Inc., Calgary, CANADA; Blaze Automation Inc., Princeton, NJ; Essence Group (Essence Security International Ltd.), Herzliya, ISRAEL; Shenzhen Saykey Technology Co., Ltd, Shenzhen, PEOPLE'S REPUBLIC OF CHINA; Webee Corporation, Sunnyvale, CA; ZNET CO., LTD, Nagoya, JAPAN; Complete Electrical Academy, Clifton, VA; Ubitech Limited, Tsuen Wan, HONG KONG-CHINA; Fantem Technologies (Shenzhen) Co., Ltd., Shenzhen City, PEOPLE'S REPUBLIC OF CHINA; and Sensurance, San Antonio, TX have withdrawn as parties to the venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on June 20, 2022. A notice was published in the Federal Register pursuant to Section 6(b) of the Act on August 30, 2022 (87 FR 53004).

Catherine Reilly,
Counsel for Civil Operations, Antitrust Division.

[FR Doc. 2022-24118 Filed 11-4-22; 8:45 am]

BILLING CODE 4410-11-P